DEPARTMENT OF TRANSPORTATION

Surface Transportation Board

[Docket No. FD 35969]

Motive Rail, Inc. d/b/a Missouri North Central Railroad—Lease and Operation Exemption—Illinois Central Railroad Company

Motive Rail, Inc. d/b/a Missouri North Central Railroad (MNCR), a Class III rail carrier, has filed a verified notice of exemption under 49 CFR 1150.41 to lease from Illinois Central Railroad Company (ICRR),¹ and to operate approximately 1.6 miles of rail line (the Line), known as the CN Eldorado Subdivision, between mileposts 110.9 and 112.5 in Galatia, Ill.

¹ ICRR is a subsidiary of Canadian National Railway Company.

MNCR currently holds authority to operate approximately 7.75 miles of rail line in northern Missouri and a terminal switching operation on Michigan's Upper Peninsula. The purpose of this transaction is to allow MNCR to provide switching services for American Coal, the principal shipper in Galatia.

The transaction may be consummated on or after December 6, 2015, the effective date of the exemption (30 days after the verified notice of exemption was filed).

MNCR certifies that its projected annual revenues as a result of this transaction will not exceed $5 million or result in the creation of a Class II or Class I rail carrier.

If the verified notice contains false or misleading information, the exemption is void ab initio. Petitions to revoke the exemption under 49 U.S.C. 10502(d) may be filed at any time. The filing of a petition to revoke will not automatically stay the effectiveness of the exemption. Petitions for stay must be filed no later than November 27, 2015 (at least seven days before the exemption becomes effective).

An original and ten copies of all pleadings, referring to Docket No. FD 35969, must be filed with the Surface Transportation Board, 395 E Street SW., Washington, DC 20423-0001. In addition, one copy of each pleading must be served on John D. Heffner, Strasburger & Price, LLP, 1025 Connecticut Ave. NW., Suite 717, Washington, DC 20036.

Board decisions and notices are available on our Web site at WWW.STB.DOT.GOV.

Decided: November 17, 2015.
By the Board, Rachel D. Campbell, Director, Office of Proceedings.
Kenyatta Clay,
Clearance Clerk.

[FR Doc. 2015-29671 Filed 11-19-15; 8:45 am]

BILLING CODE 4915-01-P